DEPARTMENT OF AGRICULTURE

7 CFR Parts 6, 11, 25, 1530, 1580, 1940, 2500, 2903, and 4288

[Docket No. USDA-2020-0004]

Department of Agriculture Regulations for Grants and Agreements; Update of Citations

AGENCY: Office of the Chief Financial Officer, USDA.

ACTION: Final rule.

SUMMARY: This final rule amends the regulations of several United States Department of Agriculture agencies to correct outdated citations to the Department's grants and agreements regulations.

DATES: Effective May 28, 2020.

FOR FURTHER INFORMATION CONTACT: Mr. Tyson Whitney, Director, Transparency & Accountability Reporting Division, Office of the Chief Financial Officer, USDA, 1400 Independence Avenue SW, Washington, DC 20250-2011; phone (202) 720-8978.

SUPPLEMENTARY INFORMATION: The regulations in 2 CFR chapter IV set forth the United States Department of Agriculture's (USDA) regulations for grants and agreements. The regulations in part 417 were established in a final rule published May 25, 2010 (75 FR 29185), the regulations in part 421 in a final rule published December 8, 2011 (76 FR 76610), and the remainder of the chapter (parts 400, 415, 416, 418, and 422) in a final rule published December 19, 2014 (79 FR 75982). The regulations in 2 CFR chapter IV updated and replaced provisions that had previously been found in 7 CFR parts 3015 through 3019, 3021, and 3052.

The regulations of several USDA agencies in title 7 refer to and cite the grants and agreements regulations. Following the publication of the various final rules establishing the regulations in 2 CFR chapter IV, those agencies updated their regulations so that they referred to the new grants and agreements regulations in title 2 rather than the predecessor regulations in Title 7. However, we have identified a number of instances where the necessary updates were inadvertently overlooked. This final rule makes those updates.

Effective Date

This rule relates to internal agency management and makes various nonsubstantive changes to the regulations in title 7, Code of Federal Regulations to correct outdated citations to the Department's grants and agreements regulations. Accordingly, notice and other public procedure on this rule are unnecessary and contrary to the public interest. Therefore, pursuant to 5 U.S.C. 553, notice of proposed rulemaking and opportunity to comment are not required, and this rule may be made effective less than 30 days after publication in the Federal Register. Further, since this rule relates to internal agency management, it is exempt from the provisions of Executive Orders 12866, 12988, and 13771. Finally, this action is not a rule as defined by the Regulatory Flexibility Act (5 U.S.C. 501) and, thus, is exempt from the provisions of that Act.

Paperwork Reduction Act

This final rule contains no new reporting, recordkeeping, or third-party disclosure requirements under the Paperwork Reduction Act of 1995 (44 U.S.C. 3501 et seq.).

List of Subjects

7 CFR Part 6

Agricultural commodities, Dairy, Cheese, Imports, Procedural rules, Application requirements, Tariff-rate quota, Reporting and recordkeeping requirements.

7 CFR Part 11

Administrative practice and procedure, Agriculture, Agricultural commodities, Crop insurance, Ex parte communications, Farmers, Federal aid programs, Guaranteed loans, Insured loans, Loan programs, Price support programs, Soil conservation.

7 CFR Part 25

Community development, Economic development, Empowerment zones, Enterprise communities, Housing, Indians, Intergovernmental relations, Reporting and recordkeeping requirements, Rural development.

7 CFR Part 1530

Polyhydric alcohol, Raw and refined sugar, Re-exports.

7 CFR Part 1580

Agricultural commodity imports; Reporting and recordkeeping requirements; and Trade adjustment assistance.

7 CFR Part 1940

Administrative practice and procedure, Agriculture, Allocations, Grant programs—Housing and community development, Loan programs—Agriculture, Rural areas.

7 CFR Part 2500

Farmers, Federal aid programs, Grants administration, Grant programs—agriculture, Ranchers, Socially disadvantaged groups.

7 CFR Part 2903

Agricultural commodities, Energy, Fuel, Fuel additives.

7 CFR Part 4288

Administrative practice and procedure, Biobased products, Energy, Reporting and recordkeeping requirements.

Accordingly, 7 CFR parts 6, 11, 25, 1530, 1580, 1940, 2500, 2903, and 4288 are amended as follows:

PART 6—IMPORT QUOTAS AND FEES

Subpart—General Provisions

1. The authority citation for part 6, Subpart—General Provisions, continues to read as follows:

Authority: Sec. 8, 65 Stat. 75; 19 U.S.C. 1365.

[Subpart Redesignated as Subpart A]

2. Redesignate “Subpart—General Provisions” as “Subpart A—General Provisions”.

Subpart—Dairy Tariff-Rate Quota Import Licensing

3. The authority citation for Subpart—Dairy Tariff-Rate Quota Import Licensing continues to read as follows:

Authority: Additional U.S. Notes 6, 7, 8, 12, 14, 16-23 and 25 to Chapter 4 and General Note 15 of the Harmonized Tariff Schedule of the United States (19 U.S.C. 1202), Pub. L. 97-258, 96 Stat. 1051, as amended (31 U.S.C. 9701), and secs. 103 and 404, Pub. L. 103-465, 108 Stat. 4819 (19 U.S.C. 3513 and 3601).

[Subpart Redesignated as Subpart B]

4. Redesignate “Subpart—Dairy Tariff-Rate Quota Import Licensing” as “Subpart B—Subpart—Dairy Tariff-Rate Quota Import Licensing”.

5. Section 6.31 is revised to read as follows:

§ 6.31 Debarment and suspension.

The provisions in 2 CFR parts 417 and 421 apply to this subpart.

Subpart—Price-Undercutting of Domestic Cheese by Quota Cheeses

6. The authority citation for Subpart—Price-Undercutting of Domestic Cheese by Quota Cheeses continues to read as follows:

Authority: Sec. 702, Pub. L. 96-39, 93 Stat. 144, 19 U.S.C. 1202 note.

[Subpart Redesignated as Subpart C]

7. Redesignate “Subpart—Price-Undercutting of Domestic Cheese by Quota Cheeses” as “Subpart C—Price-Undercutting of Domestic Cheese by Quota Cheeses”.

PART 11—NATIONAL APPEALS DIVISION

8. The authority citation for part 11 continues to read as follows:

Authority: 5 U.S.C. 301; Title II, Subtitle H, Pub. L. 103-354, 108 Stat. 3228 (7 U.S.C. 6991 et seq.); Reorganization Plan No. 2 of 1953 (5 U.S.C. App.).

Subpart A—[Amended]

9. The heading for subpart A is amended by removing the word “Divison” and adding the word “Division” in its place.

§ 11.1 [Amended]

10. In § 11.1, the in definition of Participant, paragraph (4) is amended by removing the citation “7 CFR parts 1407 and 3017” and adding the citation “7 CFR part 1407 and 2 CFR part 417” in its place.

PART 25—RURAL EMPOWERMENT ZONES AND ENTERPRISE COMMUNITIES

11. The authority citation for part 25 continues to read as follows:

Authority: 5 U.S.C. 301; 26 U.S.C. 1391; Pub. L. 103-66, 107 Stat. 543; Pub. L. 105-34, 111 Stat. 885; Sec. 766, Pub. L. 105-277, 112 Stat. 2681-37; Pub. L. 106-554 [Title I of H.R. 5562], 114 Stat. 2763.

§ 25.603 [Amended]

12. In § 25.603, paragraph (e) is amended in the certification text by removing the citation “7 CFR parts 25, 3015, 3016, 3017, 3018, 3019 and 3052” and adding the citation “7 CFR part 25, 2 CFR part 200, and 2 CFR chapter IV” in its place.

13. In § 25.622, paragraph (c) is revised to read as follows:

§ 25.622 Other considerations.

* * * * *

(c) Other USDA regulations. This program is subject to the provisions of the following regulations, as applicable:

(1) 2 CFR part 400, Uniform Administrative Requirements, Cost Principles, and Audit Requirements for Federal Awards;

(2) 2 CFR part 415, General Program Administrative Regulations;

(3) 2 CFR part 416, General Program Administrative Regulations for Grants and Cooperative Agreements to State and Local Governments;

(4) 2 CFR part 417, Nonprocurement Debarment and Suspension;

(5) 2 CFR part 418, New Restrictions on Lobbying;

(6) 2 CFR part 421, Requirements for Drug-Free Workplace (Financial Assistance); and

(7) 2 CFR part 422, Research Institutions Conducting USDA-Funded Extramural Research; Research Misconducts.

PART 1530—THE REFINED SUGAR RE-EXPORT PROGRAM, THE SUGAR CONTAINING PRODUCTS RE-EXPORT PROGRAM, AND THE POLYHYDRIC ALCOHOL PROGRAM

14. The authority citation for part 1530 continues to read as follows:

Authority: Additional U.S. note 6 to chapter 17 of the Harmonized Tariff Schedule of the United States (19 U.S.C. 1202); 19 U.S.C. 3314; Proc. 6641, 58 FR 66867, 3 CFR, 1994 Comp., p. 172; Proc. 6763, 60 FR 1007, 3 CFR, 1995 Comp., p. 146.

15. In § 1530.111, paragraph (b) is revised to read as follows:

§ 1530.111 Enforcement and penalties.

* * * * *

(b) The Administrator of the Foreign Agricultural Service, USDA, may suspend or revoke a license upon recommendation of the Licensing Authority. Suspension of a license will be governed by 2 CFR part 417, subpart G, and debarment will be governed by 2 CFR part 417, subpart H.

PART 1580—TRADE ADJUSTMENT ASSISTANCE FOR FARMERS

16. The authority citation for part 1580 continues to read as follows:

Authority: 19 U.S.C. 2401.

17. In § 1580.504, paragraph (a) is revised to read as follows:

§ 1580.504 Debarment, suspension, and penalties.

(a) Generally. The regulations governing nonprocurement debarment and suspension, 2 CFR part 417, and requirements for drug-free workplace (financial assistance), 2 CFR part 421, apply to this part.

* * * * *

PART 1940—GENERAL

18. The authority citation for part 1940 continues to read as follows:

Authority: 5 U.S.C. 301; 7 U.S.C. 1989; and 42 U.S.C. 1480.

19. In § 1940.968, paragraphs (h)(3) and (m) are revised to read as follows:

§ 1940.968 Rural Economic Development Review Panel Grant (Panel Grant).

* * * * *

(h) * * *

(3) Management assistance. Grantees will be provided management assistance as necessary to assure that grant funds are used for eligible purposes for the successful operation of the panel. Grants made under this subpart will be administered under and are subject to the U.S. Department of Agriculture regulations in 2 CFR parts 416 and 417, as appropriate.

* * * * *

(m) Costs. Costs incurred under this grant program are subject to cost principles established in 2 CFR part 200, subpart E.

* * * * *

PART 2500—OAO FEDERAL FINANCIAL ASSISTANCE PROGRAMS—GENERAL AWARD ADMINISTRATIVE PROCEDURES

20. The authority citation for part 2500 continues to read as follows:

Authority: 7 U.S.C. 6934, 7 U.S.C. 2279.

21. In § 2500.003, paragraphs (d) through (j) are revised to read as follows:

§ 2500.003 Other applicable statutes and regulations.

* * * * *

(d) 2 CFR part 415, General Program Administrative Regulations.

(e) 2 CFR part 416, General Program Administrative Regulations for Grants and Cooperative Agreements to State and Local Governments.

(f) 2 CFR part 417, Nonprocurement Debarment and Suspension.

(g) 2 CFR part 418, New Restrictions on Lobbying. Imposes prohibitions and requirements for disclosure and certification related to lobbying on awardees of Federal contracts, grants, cooperative agreements, and loans.

(h) 2 CFR part 200, subparts B—General Provisions, C—Pre-Federal Award Requirements and Contents of Federal Awards, and D—Post-Federal Award Requirements, as adopted by USDA through 2 CFR part 400.

(i) 2 CFR part 421, Requirements for Drug-Free Workplace (Financial Assistance).

(j) 2 CFR part 200, subpart F—Audit Requirements, as adopted by USDA through 2 CFR part 400.

* * * * *

PART 2903—BIODIESEL FUEL EDUCATION PROGRAM

22. The authority citation for part 2903 continues to read as follows:

Authority: 7 U.S.C. 8104; 5 U.S.C. 301.

23. Section 2903.21 is revised to read as follows:

§ 2903.21 Applicable Federal statutes and regulations.

Several Federal statutes and regulations apply to grant applications considered for review and to project grants awarded under this program. These include, but are not limited to:

(a) 7 CFR part 1, subpart A—USDA implementation of the Freedom of Information Act.

(b) 7 CFR part 3—USDA implementation of OMB Circular No. A-129 regarding debt collection.

(c) 7 CFR part 15, subpart A—USDA implementation of Title VI of the Civil Rights Act of 1964, as amended.

(d) 2 CFR part 417, Nonprocurement Debarment and Suspension.

(e) 2 CFR part 418, New Restrictions on Lobbying. Imposes prohibitions and requirements for disclosure and certification related to lobbying on recipients of Federal contracts, grants, cooperative agreements, and loans.

(f) 2 CFR part 200, subparts B—General Provisions, C—Pre-Federal Award Requirements and Contents of Federal Awards, and D—Post-Federal Award Requirements, as adopted by USDA through 2 CFR part 400.

(g) 2 CFR part 421, Requirements for Drug-Free Workplace (Financial Assistance).

(h) 2 CFR part 200, subpart F—Audit Requirements, as adopted by USDA through 2 CFR part 400. Title 29 U.S.C. 794 (sec. 504, Rehabilitation Act of 1973) and 7 CFR part 15b (USDA implementation of statute)—prohibiting discrimination based upon physical or mental handicap in federally assisted programs. Title 35 U.S.C. 200 et seq.—Bayh-Dole Act, controlling allocation of rights to inventions made by employees of small business firms and domestic nonprofit organizations, including universities, in federally assisted programs (implementing regulations are contained in 37 CFR part 401).

PART 4288—PAYMENT PROGRAMS

24. The authority citation for part 4288 continues to read as follows:

Authority: 5 U.S.C. 301; 7 U.S.C. 1989.

§ 4288.136 [Amended]

25. In § 4288.136, the introductory text is amended by removing the words “to 7 CFR part 3017, Government-wide Debarment and Suspension” and adding the words “with 2 CFR part 417” in their place.

Stephen L. Censky,
Deputy Secretary, U.S. Department of Agriculture.

[FR Doc. 2020-09568 Filed 5-27-20; 8:45 am]

BILLING CODE 3410-90-P